DEPARTMENT OF TRANSPORTATION

Federal Aviation Administration

14 CFR Part 71

[Docket No. FAA-2006-26311; Airspace Docket No. 06-AWP-19]

RIN 2120-AA66

Proposed Modification of Class D Airspace; Luke Air Force Base, AZ

AGENCY: Federal Aviation Administration (FAA), DOT.

ACTION: Notice of proposed rulemaking; correction.

SUMMARY: This action corrects the legal description in the notice of proposed rulemaking that was published in the Federal Register on December 7, 2006, (71 FR 70909), Docket No. FAA-2006-26311; Airspace Docket No. 06-AWP-19.

FOR FURTHER INFORMATION CONTACT: Frances Hope, Western Terminal Operations, System Support Specialist, AWP-520.3, Federal Aviation Administration, 15000 Aviation Boulevard, Lawndale, California 90261, telephone (310) 725-6502.

SUPPLEMENTARY INFORMATION:

History

On December 7, 2006, a notice of proposed rulemaking was published in the Federal Register (71 FR 70909), Docket No. FAA-2006-26311; Airspace Docket No. 06-AWP-19. This notice proposes to modify Class D airspace at Luke Air Force Base (LUF), AZ. This modification is necessary to contain and protect circling maneuvers for Category E aircraft executing these maneuvers in conjunction with Standard Instrument Approach Procedures (SIAPs) at the airport. The legal description did not correctly describe the proposed airspace modification. This action corrects the legal description.

Correction to Notice of Proposed Rulemaking

Accordingly, pursuant to the authority delegated to me, the changes as described above are corrected, and the legal description for Luke Air Force Base, AZ, as published in the Federal Register on December 7, 2006, (71 FR 70909), and incorporated by reference in 14 CFR 71.1, is corrected as follows:

§ 71.1 [Corrected]

* * * * *

AWP AZ D Phoenix, Luke AFB, AZ [Amended]

Phoenix Luke AFB, AZ

(Lat. 33°32′06″ N., long. 112°22′59″ W.)

That airspace extending upward from the surface to but not including 4,000 feet MSL and within a 5.6-mile radius of Luke AFB from a point intersecting the northwest portion of the Goodyear Class D airspace clockwise to a point intersecting the northern portion of the Glendale Class D airspace; and within a 4.4 mile radius of Luke AFB from the intersection of the southern portion of the Glendale Class D airspace clockwise to the intersection of the Goodyear Class D airspace; and excluding that portion within the Glendale, AZ, and Goodyear, AZ Class D airspace areas. This Class D airspace area is effective during the specific dates and times established in advance by a Notice to Airmen. The effective date and time will thereafter be continually published in the Airport/Facility Directory.

* * * * *

Issued in Los Angeles, California, on December 21, 2006.
Leonard A. Mobley,
Acting Area Director, Western Terminal Operations.

[FR Doc. 07-33 Filed 1-10-07; 8:45 am]

BILLING CODE 4910-13-M